FEDERAL MARITIME COMMISSION

[Docket No. 09-03]

Naveena Exports, Ltd. v. Go-Trans, Inc.; Erratum

Served July 13, 2009.

In the Notice of Complaint and Assignment in Docket 09-03, served July 7, 2009 and appearing in the Federal Register on July 13, 2009 (74 FR 33441-33442), the next-to-last sentence of the first paragraph is corrected to read, “Complainant states that Respondent has agreed not to contest this Complaint in order to allow Complainant to secure the release of FMC Bond No. 18084F, in partial payment of the total damages incurred by Complainant.”

Karen V. Gregory,
Secretary.

[FR Doc. E9-16949 Filed 7-15-09; 8:45 am]

BILLING CODE 6730-01-P